DEPARTMENT OF JUSTICE

Office of Justice Programs

Agency Information Collection Activities: Proposed Collection, Comments Requested

ACTION: Notice of Information Collection Under Review; Reinstatement, with change, of a previously approved collection for which approval has expired—Police Public Contact Survey.

The Department of Justice, Office of Justice Programs, Bureau of Justice Statistics (BJS), has submitted the following information collection request for review and clearance in accordance with the Paperwork Reduction Act of 1995. This proposed information collection is published to obtain comments from the public and affected agencies. Comments are encouraged and will be accepted for “sixty days” until April 22, 2002.

If you have additional comments, suggestions, or need a copy of the proposed information collection instrument with instructions or additional information, please contact Patrick Langan, (202) 616-3490, Bureau of Justice Statistics, Office of Justice Programs, U.S. Department of Justice, 810 7th Street, NW., Washington, DC 20531.

Written comments and suggestions from the public and affected agencies concerning the proposed collection of information should address one or more of the following four points:

(1) Evaluate whether the proposed collection information is necessary for the proper performance of the function of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information

(1) Type of information collection: Reinstatement, with change, of previously approved collection for which approval has expired.

(2) The title of the form/collection: Police Public Contact Survey.

(3) The agency form number, if any, and the applicable component of the Department sponsoring the collection: PPCS-1. Bureau of Justice Statistics, Office of Justice Programs, United States Department of Justice.

(4) Affected public who will be asked or required to respond, as well as a brief abstract: Primary: Eligible respondents to the survey must be age 16 or older. The Police Public Contact Supplement fulfills the mandate set forth by the Violent Crime Control and Law Enforcement Act of 1994 to collect, evaluate, and publish data on the use of excessive force by law enforcement personnel. The survey will be conducted as a supplement to the National Crime Victimization Survey in all sample households for six (6) month period.

Other: None

(5) An estimate of the total number of respondents and the amount of time estimated for an average respondent to respond/reply: Of the 84,700 eligible persons, we expect approximately 80 percent of the eligible persons or 67,760 persons to complete only the first four (lead-in or screening questions) questions on the questionnaire. We expect the screeners to take approximately .033 hours (2 minutes) per person to administer. We expect that approximately 20 percent of the eligible persons or 16,940 persons will report contact with the police. We estimate an average of .167 hours (10 minutes) to ask the detailed questions regarding the nature of the contact.

(6) An estimate of the total public burden (in hours) associated with the collection: The Total respondent burden is approximately 5,065 hours.

If additional information is required contact: Mrs. Brenda E. Dyer, Deputy Clearance Officer, United States Department of Justice, Information Management and Security Staff, Justice Management Division, Suite 1600, 601 D Street, NW., Washington, DC 20530.

Dated: February 12, 2002.
Brenda E. Dyer,
Department Deputy Clearance Office, United States Department of Justice.

[FR Doc. 02-3870 Filed 2-15-02; 8:45 am]

BILLING CODE 4410-18-M